DEPARTMENT OF THE INTERIOR

Bureau of Land Management

[AZ030-1020-00-241A; AZA 31042]

Notice of Realty Action; Recreation and Public Purposes (R&PP) Act Classification

AGENCY: Bureau of Land Management, Interior.

ACTION: Notice of realty action.

SUMMARY: The following public lands in Mohave County, Arizona have been examined and found suitable for classification for lease or conveyance to Mohave County Board of Supervisors under the provisions of the Recreation and Public Purposes Act, as amended (43 U.S.C. 869 et seq.). The Mohave County Board of Supervisors proposes to use the land for a Library Station.

Gila and Salt River Meridian, Mohave County, Arizona

Township 21 N., R. 18 W., Sec 8, N½SE¼SE¼NE¼NE¼.

Containing 2.5 acres, more or less.

The lands are not needed for Federal purposes. Lease or conveyance is consistent with current BLM land use planning and would be in the public interest.

The lease/patent, when issued, will be subject to the following terms, conditions, and reservations.

1. Provisions of the Recreation and Public Purposes Act and to all applicable regulations of the Secretary of the Interior.

2. A right-of-way for ditches and canals constructed by the authority of the United States.

3. All minerals shall be reserved to the United States, together with the right to prospect for, mine, and remove the minerals.

4. Those rights for road purposes granted to the Mohave County Board of Supervisors by permit number AZA-17931.

5. Those rights for the purposes granted to the Golden Valley Chamber of Commerce permit number AZA-24652.

6. Subject to other valid existing rights.

Detailed information concerning this action is available for review at the office of the Bureau of Land Management, Kingman Field Office, 2475 Beverly Avenue, Kingman, Arizona 86401.

Upon publication of this notice in the Federal Register, the lands will be segregated from all other forms of appropriation under the public land laws, including the general mining laws, except for lease or conveyance under the Recreation and Public Purpose Act and leasing under the mineral leasing laws.

For a period of 45 days from the date of publication of this notice, interested persons may submit comments regarding the proposed lease/conveyance or classification of the land to the Kingman Field Manager, 2475 Beverly Avenue, Kingman, Arizona 86401. Any adverse comments will be reviewed by the State Director. In the absence of any adverse comments, the classification will become effective 60 days from the date of publication of this notice.

FOR FURTHER INFORMATION CONTACT: Janna Paronto, Realty Specialist, Kingman Field Office, 2475 Beverly Avenue, Kingman, Arizona 86401, Telephone (928) 692-4449.

Dated: April 23, 2003.
John R. Christensen,
Field Manager.

[FR Doc. 03-13923 Filed 6-3-03; 8:45 am]

BILLING CODE 4310-32-P